DEPARTMENT OF TRANSPORTATION

Federal Highway Administration

[FHWA Docket No. FHWA-08-0106]

Express Lanes Demonstration Program—Performance Goals for the Texas Department of Transportation Express Lanes IH-635/IH35E and North Tarrant Express Lanes Projects

AGENCY: Federal Highway Administration (FHWA), DOT.

ACTION: Notice; request for comments.

SUMMARY: Section 1604(b)(7) of the Safe, Accountable, Flexible, Efficient Transportation Equity Act: A Legacy for Users (SAFETEA-LU) (Pub. L. 109-59; Aug. 10, 2005), authorizes the Secretary of Transportation (Secretary) to develop and publish performance goals for each express lane project accepted under the Express Lanes Demonstration Program. This notice lists the Performance Goals, Monitoring and Reporting Program requirements for the I-635 (the LBJ Freeway) project in Dallas and North Tarrant Express project in Ft. Worth in the State of Texas.

DATES: Comments must be received on or before February 23, 2009.

ADDRESSES: Mail or hand deliver comments to: Docket Management Facility, U.S. Department of Transportation, 1200 New Jersey Avenue, SE., Washington, DC 20590, or submit electronically at http://www.regulations.gov, or fax comments to (202) 493-2251.

All comments should include the docket number that appears in the heading of this document. All comments received will be available for examination and copying at the above address from 9 a.m. to 5 p.m., e.t., Monday through Friday, except Federal holidays. Those desiring notification of receipt of comments must include a self-addressed, stamped postcard or may print the acknowledgment page that appears after submitting comments electronically. Anyone is able to search the electronic form of all comments in any one of our dockets by the name of the individual submitting the comment (or signing the comment, if submitted on behalf of an association, business, or labor union). You may review the DOT's complete Privacy Act Statement in the Federal Register published on April 11, 2000 (Volume 65, Number 70, Pages 19477-78) or you may visit http://DocketsInfo.dot.gov.

FOR FURTHER INFORMATION CONTACT: For questions about this notice, contact Mr. Wayne Berman, Office of Operations, (202) 366-4069, (Wayne.Berman@dot.gov); for legal questions contact Mr. Michael Harkins, Attorney Advisor, Office of the Chief Counsel, (202) 366-4928, (Michael.Harkins@dot.gov). The FHWA is located at 1200 New Jersey Avenue, SE., Washington, DC 20590. Office hours are from 7:45 a.m. to 4:15 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

Section 1604(b) of SAFETEA-LU, established the Express Lanes Demonstration Program (ELDP). Under the ELDP, the Secretary must carry out 15 demonstration project during the period of fiscal years 2005 through 2009 to permit States to collect a toll from motor vehicles at eligible toll facilities. On September 18, 2007, the Texas Department of Transportation (TxDOT) submitted an application to the FHWA for the I-635 (LBJ Freeway) managed lane project, which was approved on March 19, 2008. Subsequently, TxDOT submitted an application to the FHWA for the North Tarrant Express managed lane project, which was approved on July 16, 2008.

The I-635 project would consist of the construction of 28 miles of new managed (tolled) lanes as part of the reconstruction of portions of I-635 and I-35E in the Dallas area. The North Tarrant Express project would consist of the construction of approximately 36 miles of new managed (tolled) lanes as part of the reconstruction of portions of I-820, I-35W, and State Highway 183 in the Fort Worth area.

Pursuant to section 1604(b)(7) of SAFETEA-LU, the Secretary, in cooperation with the State, public authority, private entity, and other program participants must develop performance goals for each project and publish such goals for public comment. This notice lists, and solicits public comment on, the Performance Goals, Monitoring and Reporting Programs for the I-635 and North Tarrant Express Projects.

Performance Goals, Monitoring and Reporting Program

The following describes the agreed upon Express Lane Demonstration Program's Performance Goals, Monitoring and Reporting Program for the I-635 and the North Tarrant Express Projects. This program has been developed cooperatively between TxDOT and FHWA.

A. Performance Goals

The FHWA and TxDOT have identified the following three Performance Goals for the project. These Performance Goals reflect the priorities for the project at the State and local levels. The Performance Goals also reflect the goals of the Express Lanes Demonstration Project set forth in Federal law at SAFETEA-LU Section 1604(b).

I. Effects on travel, traffic, and air quality.

II. Distribution of benefits and burdens.

III. Use of alternative transportation modes.

IV. Use of revenues to meet transportation or impact mitigation needs.

B. Core Performance Measures

The following Core Performance Measures will be utilized to focus the monitoring and reporting work undertaken to evaluate facility performance. The Performance Goals for which each Core Performance Measure will provide relevant information are indicated in parenthesis. Specific reporting items for each Core Performance Measure are listed immediately below it.

Generally, facility performance will be assessed by reference to baseline values or trends for the reported items under the Core Performance Measures. The methodology for determining each baseline value or trend will be explained in detail in the Performance Monitoring and Evaluation Manual described below.

1. Travel-Time Reliability in Priced Lanes (I, II, III)

• Report percentage of time that the managed lanes are operating at a minimum average speed of 50 miles per hour, broken down into daily averages for the a.m. peak, off-peak, and p.m. peak periods.

• Report 95th percentile travel times for the managed lanes, broken down into daily averages for the a.m. peak, off-peak, and p.m. peak periods. (The 95th percentile represents the slowest traffic day each month.) This measure is reported in minutes.

• Report the Buffer Index calculated to demonstrate performance in the managed lanes, broken down into daily averages for the a.m. peak, off-peak, and p.m. peak periods. The Buffer Index is the extra time that travelers must add to their average travel time when planning trips to ensure on-time arrival. (For example, a buffer index of 40 percent means that for a trip that usually takes 20 minutes a traveler should budget an additional 8 minutes to ensure on-time arrival most of the time. The 8 extra minutes is called the buffer time. Therefore, the traveler should allow 28 minutes for the trip in order to ensure on-time arrival 95 percent of the time.)

• Report traffic volumes and traffic volume changes on a total and percentage-change basis annually, broken into daily averages, for daily total, by a.m. peak, off-peak, and p.m. peak the managed lanes by direction.

• Report traffic speeds and traffic speed differences from the previous year (on a total and percentage-change basis) annually, broken into daily averages, for daily total, by a.m. peak, off-peak, and p.m. peak for the managed lanes by direction.

• Report actual number of incidents and identify the effect on lane availability for the managed lanes during this time, including the length of time each such lane was unavailable.

2. Changes in Mode Split/Ridership/Vehicle Occupancies of Priced vs. General Purpose Lanes (I, II, III)

• Report number of declared HOVs for the year and differences from the previous year (on a total and percentage-change basis), broken into daily averages, by a.m. peak and p.m. peak for managed lanes.

• Report number of buses (i.e. registered non-revenue accounts) for the year and differences from the previous year (on a total and percentage-change basis), broken into daily averages, by a.m. peak, off-peak, and p.m. peak for managed lanes.

• Report average toll charged for the year and differences from the previous year (on a total and percentage-change basis), by vehicle type, broken into daily averages, by a.m. peak, off-peak, and p.m. peak for managed lanes.

• If reasonably available, report ridership volumes for the year and differences from the previous year (on a total and percentage-change basis), by vehicle type; SOV, HOV2+, HOV3+, Bus, Van Pool and Other, broken into daily averages by a.m. peak, off-peak, and p.m. peak for the general purpose lanes, managed lanes, and parallel access roads as applicable.

• Report on the amount of vehicle miles traveled (VMT) for the year and differences from the previous year (on a total and percentage-change basis), by vehicle type; SOV, HOV2+, HOV3+, Bus, Van Pool and Other, broken into daily averages by a.m. peak, off-peak, and p.m. peak on the managed lanes.

• Report Metropolitan Planning Organization (MPO) rideshare payments, HOV subsidy and other disbursements.

3. Transit Schedule Adherence (II, III)

• To the extent the information is reasonably available, report on transit service reliability—percentage of on-time performance of transit service.

• To the extent the information is reasonably available, report on any existing bus transit routes or sanctioned van-pool accounts utilizing the corridor in advance of opening the project for tolling. This is to be used as a benchmark for added bus transit routes or sanctioned van-pool accounts utilizing the corridor after tolling begins.

4. Application of Revenue Reinvestment (II, IV)

• Report breakdown of the use of revenues.

• Report percentage of revenue used to mitigate impacts.

5. Change in Criteria Pollutant Emissions for the Region (I)

• Report on the concentrations of six criteria pollutants (particle pollution, ground-level ozone, carbon monoxide, sulfur oxides, nitrogen oxides, and lead) during the current year and differences from the previous year (on a total and percentage-change basis) utilizing reasonably available and reliable air quality reporting tools and mechanisms.

• Utilize the results of the core performance sub-elements B.I(a) (Travel-time reliability in tolled lanes) and B.III(a) (Changes in mode split/ridership/vehicle occupancies of tolled vs. general purpose lanes) to the extent possible to assist in utilizing the NCTCOG's air quality modeling tools and mechanisms to demonstrate any reductions in criteria pollutant emissions.

C. Monitoring and Reporting Program

I. Performance Monitoring and Evaluation Manual

Prior to commencement of pricing operations on the facility, TxDOT will prepare a Performance Monitoring and Evaluation Manual document that will describe the information to be collected, the methodology for identifying baseline values and approach for developing the annual reports that assess facility performance. It will serve as a tool to facilitate achievement of the performance goals identified in Part A by documenting the program for regular monitoring and reporting to be utilized in the assessment of the Core Performance Measures identified in Part B.

The Performance Monitoring and Evaluation Manual will be in the form of an instruction manual, and will address the following subject areas.

1. Project Overview

2. Purpose and Need

3. Organization of Document

4. Overview of Project Goals

5. Overview of Core Performance Measures

a. Key Questions and definition of Core Performance Measures

b. Description of how specific reported information relates to Core Performance Measures and Performance Goals

6. Methodology for Determining Baseline Measurements

7. Annual Monitoring Program Measurement Processes and Procedures

8. Coordination with other Transportation Providers

9. Reference Documentation Listing as Applicable

II. Monitoring and Reporting Annual Report

The annual monitoring and reporting program measurement processes and procedures will be documented in an annual report that shall include the following sections.

1. Project Information

2. Performance Highlights

3. Performance Summary

4. Performance Details

D. Timeline and Process for Submission of ELDP Monitoring Report

The annual reporting period for the Express Lanes Demonstration Program is between January 1st and December 31st of each year. Data collected and reported will align with this time period. The first year's data after tolling commences will be data collected from the date of service commencement to December 31st of that year.TxDOT's submission to FHWA of the Monitoring and Reporting Annual Report will occur no later than March 31st of each year.

Authority: Section 1604(b)(7) of the Safe, Accountable, Flexible, Efficient Transportation Equity Act: A Legacy for Users (SAFETEA-LU) (Pub. L. 109-59; Aug. 10, 2005).

Issued on: January 8, 2009.
Thomas J. Madison, Jr.,
Federal Highway Administrator.

[FR Doc. E9-1174 Filed 1-21-09; 8:45 am]

BILLING CODE 4910-22-P